ENVIRONMENTAL PROTECTION AGENCY

40 CFR Part 52

[EPA-R05-OAR-2012-0541; FRL-9733-6]

Approval and Promulgation of Air Quality Implementation Plans; Illinois; Greif Packaging, LLC Adjusted Standard

AGENCY: Environmental Protection Agency (EPA).

ACTION: Direct final rule.

SUMMARY: EPA is approving into the Illinois State Implementation Plan (SIP) an adjusted standard for the Greif Packaging, LLC facility located at 5 S 220 Frontenac Road in Naperville, Illinois (Greif). On June 20, 2012, the Illinois Environmental Protection Agency (IEPA) submitted to EPA for approval an adjustment to the general rule, Organic Material Emission Standards and Limitations for the Chicago Area; Subpart TT: Other Emission Units, as it applies to emissions of volatile organic matter (VOM) from Greif's fiber drum container manufacturing facility. VOM, as defined by the State of Illinois, is identical to volatile organic compound (VOC), as defined by EPA. The adjusted standard replaces portions of the general rule for VOM emissions with site-specific Reasonably Available Control Technology (RACT) requirements for the Greif facility.

DATES: This direct final rule will be effective December 21, 2012, unless EPA receives adverse comments by November 21, 2012. If adverse comments are received, EPA will publish a timely withdrawal of the direct final rule in the Federal Registerinforming the public that the rule will not take effect.

ADDRESSES: Submit your comments, identified by Docket ID No. EPA-R05-OAR-2012-0541, by one of the following methods:

1. www.regulations.gov: Follow the on-line instructions for submitting comments.

2. Email: aburano.douglas@epa.gov.

3. Fax: (312) 408-2279.

4. Mail: Doug Aburano, Chief, Attainment Planning and Maintenance Section, Air Programs Branch (AR-18J), U.S. Environmental Protection Agency, 77 West Jackson Boulevard, Chicago, Illinois 60604.

5. Hand Delivery: Doug Aburano, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2012-0541. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Kathleen D'Agostino, Environmental Engineer, at (312) 886-1767 before visiting the Region 5 office.

FOR FURTHER INFORMATION CONTACT: Kathleen D'Agostino, Environmental Engineer, Attainment Planning and Maintenance Section, Air Programs Branch (AR-18J), Environmental Protection Agency, Region 5, 77 West Jackson Boulevard, Chicago, Illinois 60604, (312) 886-1767, dagostino.kathleen@epa.gov.

SUPPLEMENTARY INFORMATION: Throughout this document whenever “we,” “us,” or “our” is used, we mean EPA. This supplementary information section is arranged as follows:

I. What is the background for this action?

II. What is EPA's analysis of Greif's adjusted standard?

III. What action is EPA taking?

IV. Statutory and Executive Order Reviews

I. What is the background for this action?

Greif operates a fiber drum container manufacturing facility. In general, fiber drums are produced by cutting fiber material to the appropriate length, forming the material into a cylinder, and attaching a top and bottom to the cylinder. Some of the fiber drums require the addition of a polyethylene drum liner to meet customer specifications, particularly for storage and transport of food-grade products. Greif conducts quality control (QC) testing of these liners by spraying a test fluid into the interior of the drums. The test fluid is a denatured alcohol product, which is a VOC.

EPA requires that existing VOC sources in certain ozone nonattainment areas meet a level of control referred to as RACT. See 42 U.S.C. 7511a(b)(2). EPA defines RACT as “the lowest emission limitation that a particular source is capable of meeting by the application of control technology that is reasonably available considering technological and economic feasibility.” See 44 FR 53762 (September 17, 1979). For many source categories, EPA has established guidance documents, referred to as Control Technique Guideline (CTG) documents, which fairly explicitly establish the level of control that represents RACT for a specific source category. The implementation of RACT is also required at major stationary sources for which EPA has not issued CTGs. Illinois has adopted a general rule applicable to these major sources at title 35 of the Illinois Administrative Code (Ill. Adm. Code), part 218, subpart TT. Because neither a CTG document nor explicit guidance has been established for fiber drum container manufacturing facilities, the general rule at 35 Ill. Adm. Code subpart TT applies to the Greif facility. A source is subject to this rule if it has the potential to emit 22.7 Mg (25 tons) or more of VOM per year (35 Ill. Adm. Code 218.980(b)).

Greif is subject to a Federally Enforceable State Operating Permit (FESOP) which limits VOM emissions from the QC test process to 22.8 tons per year (tpy) and VOM emissions from the remainder of the plant to 1.4 tpy. This limits facility VOM emissions to an aggregate of 24.2 tpy, below the 25 tpy threshold. However, Greif reported QC test process emissions of 35.2, 46.7, 19.1, 7.7, and 8.5 tpy for 2006, 2007, 2008, 2009, and 2010, respectively. The high emissions in 2006 and 2007 put the source over the 25 tpy threshold, triggering the applicability of subpart TT. See 35 Ill. Adm. Code 218.980(b)(1).

Under 35 Ill. Adm. Code 218.980(d), subpart TT limits do not apply to emission units with emissions of VOC less than or equal to 2.5 tpy, providing that the total emissions from such emission units does not exceed 5.0 tpy. Therefore, the only emission unit at the Greif facility subject to limits under subpart TT is the QC test process. This process became subject to the requirement to reduce uncontrolled emissions by 81 percent. (35 Ill. Adm. Code 218.986(a))

Greif filed a petition for an adjusted standard from 35 Ill. Adm. Code 218.986(a) on January 24, 2011, in accordance with section 28.1 of the Illinois Environmental Protection Act. A final Opinion and Order of the Illinois Pollution Control Board granted Greif an adjusted standard on April 5, 2012.

II. What is EPA's analysis of Greif's adjusted standard?

Greif evaluated emission control options for the QC test process to satisfy RACT control requirements in 35 Ill. Adm. Code 218.986(a). Greif considered capture plus recuperative thermal oxidizers, capture plus carbon adsorbers, and capture plus biofilters and material substitution. Each of these control options could achieve compliance with the 81 percent reduction requirement, but were estimated to cost from $11,667-$17,672 per ton of VOM controlled.

Given the high cost of add on controls, Greif looked at two options for reducing VOC emissions through material substitution, mixing the QC test fluid with acetone and mixing the QC test fluid with water. Mixing the QC test fluid with acetone was found to be technically infeasible because acetone would dissolve the gasket material that seals the bottom of the drum to the side walls. Greif found that the QC test fluid could be diluted with water to reduce VOC emissions, while continuing to satisfy product quality standards. Greif determined that a dilution of 45 percent denatured alcohol and 55 percent water was the highest dilution percentage that would allow the facility to meet customer quality assurance requirements. Using this dilution would result in a 55 percent reduction in VOM emissions. In addition, Greif determined that it could reduce the amount of test fluid sprayed on each drum to an amount not to exceed 48 grams. These modifications would reduce VOC emissions from Greif's QC test process by 70 percent on a unit basis and result in annual emissions below the 22.8 tpy limit in the FESOP.

Greif concluded that achieving a capture and control rate of at least 81 percent from its QC test process was not economically reasonable, and that the water-diluted QC test process was the only technically feasible and economically reasonable alternative.

The Illinois Pollution Control Board adopted a final Opinion and Order on April 5, 2012. In summary, the order required the following:

(1) An automated, mechanical wand that is calibrated so that each spray releases approximately the same amount of QC test fluid;

(2) Test fluid composed of no more that 45 percent denatured alcohol by weight and no less than 55 percent water by weight;

(3) Calibration of the automated QC test process equipment to spray an average of no more than 48 grams of QC test fluid per drum, with compliance to be measured as least once per calendar quarter;

(4) Limits on VOM usage from the QC test process of 2.3 tons per month and 22.8 tpy; and,

(5) Limits on VOM emissions from the QC test process of 2.3 tons per month and 22.8 tpy.

In addition the order contains detailed recordkeeping requirements and compliance determination procedures. EPA finds the requirements in the Illinois Pollution Control Board's Opinion and Order dated April 5, 2012 to represent RACT for the QC test process at Greif.

In addition, EPA's approval is based on consideration of whether the adjusted standard meets the requirements of section 110(l) of the Clean Air Act (CAA), 42 U.S.C. 7410(l). To be approved, a SIP revision must not interfere with any applicable requirement concerning attainment, reasonable further progress, or any other applicable requirement of the CAA. The adjusted standard will not result in any increase in VOC emissions from the QC test process, therefore the adjusted standard will not interfere with attainment or any other applicable requirement of the CAA.

III. What action is EPA taking?

EPA is approving into the Illinois SIP an adjusted standard for the Greif facility located at 5 S 220 Frontenac Road in Naperville. This Adjusted Standard from 35 Ill. Adm. Code 218.986(a) replaces the capture and control requirements in 35 Ill. Adm. Code 218.986(a) for VOM emissions from Greif's fiber drum container manufacturing facility with the control requirements in the Illinois Pollution Control Board's April 5, 2012 Order.

We are publishing this action without prior proposal because we view this as a noncontroversial amendment and anticipate no adverse comments. However, in the proposed rules section of this Federal Register publication, we are publishing a separate document that will serve as the proposal to approve the state plan if relevant adverse written comments are filed. This rule will be effective December 21, 2012 without further notice unless we receive relevant adverse written comments by November 21, 2012. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 21, 2012.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 21, 2012. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: September 13, 2012.
Susan Hedman,
Regional Administrator, Region 5.

40 CFR part 52 is amended as follows:

PART 52—[AMENDED]

1. The authority citation for part 52 continues to read as follows:

Authority: 42 U.S.C. 7401 et seq.

Subpart O—Illinois

2. Section 52.720 is amended by adding paragraph (c)(193) to read as follows:

§ 52.720 Identification of plan.

* * * * *

(c) * * *

(193) On June 20, 2012, Illinois submitted an Adjusted Standard for the Greif Packaging, LLC facility located at 5 S 220 Frontenac Road in Naperville, DuPage County. This adjustment to the Standard at 35 Ill. Adm. Code 218.986(a) for Greif's fiber drum manufacturing facility replaces the VOM capture and control requirements in 35 Ill. Adm. Code 218.986(a) with the control requirements in the Illinois Pollution Control Board's April 5, 2012 Order.

(i) Incorporation by reference.

(A) April 5, 2012 Opinion and Order of the Illinois Pollution Control Board (AS 2011-01), effective April 5, 2012.

[FR Doc. 2012-25819 Filed 10-19-12; 8:45 am]

BILLING CODE 6560-50-P